DEPARTMENT OF TRANSPORTATION

Federal Motor Carrier Safety Administration

[Docket No. FMCSA-2011-0140]

Qualification of Drivers; Exemption Applications; Vision

AGENCY: Federal Motor Carrier Safety Administration (FMCSA), DOT.

ACTION: Notice of applications for exemptions; request for comments.

SUMMARY: FMCSA announces receipt of applications from 17 individuals for exemption from the vision requirement in the Federal Motor Carrier Safety Regulations. If granted, the exemptions would enable these individuals to qualify as drivers of commercial motor vehicles (CMVs) in interstate commerce without meeting the Federal vision standard.

DATES: Comments must be received on or before July 25, 2011.

ADDRESSES: You may submit comments bearing the Federal Docket Management System (FDMS) Docket No. FMCSA-2011-0140 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Elaine M. Papp, Chief, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to, or greater than, the level that would be achieved absent such exemption.” FMCSA can renew exemptions at the end of each 2-year period. The 17 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Danny F. Burnley

Mr. Burnley, age 49, has loss of vision in his right eye due to a traumatic injury that occurred during his late teens or early twenties. The best corrected visual acuity in his right eye is 20/400 and in his left eye, 20/20. Following an examination in 2011, his optometrist noted, “Based upon my findings and medical expertise, I Jamison J. Heffron, O.D. hereby certify Danny Burnley to be visually able to safely operate a commercial motor vehicle.” Mr. Burnley reported that he has driven straight trucks for 3 years, accumulating 6,000 miles and tractor-trailer combinations for 3 years, accumulating 6,000 miles. He holds a Class A Commercial Driver's License (CDL) from Kentucky. His driving record for the last 3 years shows no crashes and no convictions for moving violations in a CMV.

Bruce A. Cameron

Mr. Cameron, 58, has had a branch retinal vein occlusion in his left eye since 2005. The best corrected visual acuity in his right eye is 20/20 and in his left eye, count-finger vision. Following an examination in 2011, his optometrist noted, “In my opinion, Mr. Cameron has sufficient vision to perform the driving tasks required to operate a commercial vehicle.” Mr. Cameron reported that he has driven straight trucks for 45 years, accumulating 225,000 miles and tractor-trailer combinations for 30 years, accumulating 150,000 miles. He holds a Class A CDL from North Dakota. His driving record for the last 3 years shows no crashes and no convictions for moving violations in a CMV.

Charles E. Carter

Mr. Carter, 54, has complete loss of vision in his left eye due to a traumatic injury sustained in 1992. The best corrected visual acuity in his right eye is 20/20. Following an examination in 2011, his optometrist noted, “In my own opinion, Charles has sufficient vision to perform driving tasks required to operate a commercial vehicle.” Mr. Carter reported that he has driven tractor-trailer combinations for 5 years, accumulating 360,000 miles. He holds a Class A CDL from Michigan. His driving record for the last 3 years shows no crashes and no convictions for moving violations in a CMV.

Ronald J. Claud

Mr. Claud, 65, has had retinal scarring in his left eye due to a traumatic injury since 1962. The best corrected visual acuity in his right eye is 20/20 and in his left eye, 3/180. Following an examination in 2011, his optometrist noted, “I do not see any reason why he cannot obtain a commercial vehicle drivers license.” Mr. Claud reported that he has driven straight trucks for 40 years, accumulating 200,000 miles and tractor-trailer combinations for 28 years, accumulating 168,000 miles. He holds a Class C operator's license from New York. His driving record for the last 3 years shows no crashes and no convictions for moving violations in a CMV.

Stewart K. Clayton

Mr. Clayton, 50, has had inferior retinal coloboma in his right eye since birth. The best corrected visual acuity in his right eye is 20/100 and in his left eye, 20/20. Following an examination in 2010, his optometrist noted, “Mr. Clayton has sufficient vision to perform driving tasks required to operate a commercial vehicle.” Mr. Clayton reported that he has driven straight trucks for 31 years, accumulating 744,000 miles and tractor-trailer combinations for 31 years, accumulating 744,000 miles. He holds a Class A CDL from Texas. His driving record for the last 3 years shows no crashes and no convictions for moving violations in a CMV.

Sean R. Conorman

Mr. Conorman, 40, has had amblyopia in his left eye since childhood. The best corrected visual acuity in his right eye is 20/20 and in his left eye, 20/200. Following an examination in 2011, his ophthalmologist noted, “In my opinion, patient has sufficient vision to perform the driving tasks required to operate a commercial vehicle.” Mr. Conorman reported that he has driven straight trucks for 5.9 years, accumulating 236,000 miles and tractor-trailer combinations for 5.6 years, accumulating 280,000 miles. He holds a Class A CDL from Michigan. His driving record for the last 3 years shows no crashes and no convictions for moving violations in a CMV.

Jackie R. Frederick

Mr. Frederick, 61, has had amblyopia in his right eye since childhood. The best corrected visual acuity in his right eye is 20/70 and in his left eye, 20/20. Following an examination in 2011, his optometrist noted, “In my opinion, his vision is sufficient to perform the driving tasks required for operating a commercial vehicle.” Mr. Frederick reported that he has driven straight trucks for 15 years, accumulating 240,000 miles. He holds a Class A CDL from Alabama. His driving record for the last 3 years shows no crashes and no convictions for moving violations in a CMV.

Robert E. Graves

Mr. Graves, 42, has a prosthetic right eye due to a traumatic injury since age 3. The best corrected visual acuity in his left eye is 20/15. Following an examination in 2011, his optometrist noted, “He has sufficient vision to perform the driving tasks required to operate a commercial vehicle.” Mr. Graves reported that he has driven straight trucks for 24 years, accumulating 48,000 miles and driven tractor-trailer combinations for 22 years, accumulating 440,000 miles. He holds a Class A CDL from Nebraska. His driving record for the last 3 years shows no crashes but one conviction for speeding in a CMV. He exceeded the speed limit by 10 miles per hour

Brian P. Millard

Mr. Millard, 38, has had amblyopia in his left eye since childhood. The best corrected visual acuity in his right eye is 20/20 and in his left eye, 20/100. Following an examination in 2011, his ophthalmologist noted, “Based on recent examinations, patient has sufficient vision to operate a commercial vehicle.” Mr. Millard reported that he has driven straight trucks for 17 years, accumulating 1.3 million miles. He holds a Class B CDL from North Carolina. His driving record for the last 3 years shows no crashes and no convictions for moving violations in a CMV.

Steven D. Nash

Mr. Nash, 56, has had histoplasmosis in his left eye since birth. The visual acuity in his right eye is 20/20 and in his left eye, 20/450. Following an examination in 2011, his optometrist noted, “I feel that Mr. Nash has sufficient vision to perform the driving tasks required to operate a commercial vehicle.” Mr. Nash reported that he has driven straight trucks for 20 years, accumulating 900,000 miles. He holds a Class A CDL from Iowa. His driving record for the last 3 years shows no crashes and no convictions for moving violations in a CMV.

Merle M. Price

Mr. Price, 56, has a prosthetic right eye due to a traumatic injury that occurred 36 years ago. The visual acuity in his left eye is 20/20. Following an examination in 2011, his optometrist noted, “I certify that Mr. Price demonstrates that he has sufficient vision to perform the driving tasks required to operate a commercial vehicle.” Mr. Price reported that he has driven straight trucks for 5 years, accumulating 25,000 miles and tractor-trailer combinations for 20 years, accumulating 500,000 miles. He holds a Class A CDL from Iowa. His driving record for the last 3 years shows no crashes and no convictions for moving violations in a CMV.

Terrence F. Ryan

Mr. Ryan, 49, has had refractive amblyopia in his left eye since childhood. The best corrected visual acuity in his right eye is 20/20 and in his left eye, 20/50. Following an examination in 2011, his optometrist noted, “I certify in my medical opinion that Terrence Ryan has sufficient vision to operate a commercial vehicle.” Mr. Ryan reported that he has driven straight trucks for 12 years, accumulating 600,000 miles and tractor-trailer combinations for 14 years, accumulating 1.1 million miles. He holds a Class A CDL from Florida. His driving record for the last 3 years shows one crash for which he was not cited, and no convictions for moving violations in a CMV.

Kirby R. Sands

Mr. Sands, 49, has had a cornea scar in his right eye, due to a traumatic injury sustained at age 9. The best corrected visual acuity in his right eye is hand motion vision and in his left eye, 20/15. Following an examination in 2011, his optometrist noted, “My conclusion is that Kirby Sands is qualified to perform the driving tasks required to operate a commercial vehicle.” Mr. Sands reported that he has driven straight trucks for 5 years, accumulating 128,000 miles and tractor-trailer combinations for 15 years, accumulating 1.8 million miles. He holds a Class A CDL from Iowa. His driving record for the last 3 years shows no crashes and not convictions for moving violations in a CMV.

Dennis W. Stubrich

Mr. Stubrich, 57, has had Eales' disease in his right eye since 1984. The best corrected visual acuity in his right eye is 20/60 and in his left eye, 20/20. Following an examination in 2010, his ophthalmologist noted, “In my opinion, Mr. Stubrich's vision is sufficient to perform driving tasks required to operate commercial vehicles.” Mr. Stubrich reported that he has driven straight trucks for 26 years, accumulating 1.7 million miles and tractor-trailer combinations for 5 years, accumulating 72,000 miles. He holds a Class A CDL from Pennsylvania. His driving record for the last 3 years shows no crashes and no convictions for moving violations in a CMV.

Stephen W. Verrette

Mr. Verrette, 44, has had cataract in his right eye due to a traumatic injury sustained at age 10. The best corrected visual acuity in his right eye is 20/150 and in his left eye, 20/20. Following an examination in 2011, his optometrist noted, “In light of this, I feel Steve can safely perform driving tasks necessary to operate a commercial motor vehicle.” Mr. Verrette reported that he has driven straight trucks for 25 years, accumulating 75,000 miles. He holds a Class A CDL from Michigan. His driving record for the last 3 years shows no crashes and no convictions for moving violations in a CMV.

Joseph A. Wells

Mr. Wells, 46, had a corneal transplantation in the 1990s and retinal detachment repair in 2009 due to a prior history of trauma in his right eye. The best corrected visual acuity in his right eye is 20/70 and in his left eye, 20/20. Following an examination in 2011, his ophthalmologist noted, “I believe based on the clinical examination, he is capable of operating commercial motor vehicles without difficulty.” Mr. Wells reported that he has driven straight trucks for 25 years, accumulating 1.2 million miles. He holds a Class A CDL from Illinois. His driving record for the last 3 years shows no crashes and no convictions for moving violations in a CMV.

Leslie H. Wylie

Mr. Wylie, 55, has loss of vision in his right eye due to a traumatic injury sustained in 1985. The best corrected visual acuity in his right eye is 20/400 and in his left eye, 20/20. Following an examination in 2010, his ophthalmologist noted, as long as he meets the criteria in regard to his visual field for operation of a commercial vehicle, I see no problems with his operation of a commercial vehicle.” Mr. Wylie reported that he has driven straight trucks for 17 years, accumulating 3,400 miles and tractor-trailer combinations for 17 years, accumulating 3,400 miles. He holds a Class D operator's license from Idaho. His driving record for the last 3 years shows no crashes and no convictions for moving violations in a CMV.

Request for Comments

In accordance with 49 U.S.C. 31136(e) and 31315, FMCSA requests public comment from all interested persons on the exemption petitions described in this notice. The Agency will consider all comments received before the close of business July 25, 2011. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: June 17, 2011.
Larry W. Minor,
Associate Administrator for Policy.

[FR Doc. 2011-15928 Filed 6-23-11; 8:45 am]

BILLING CODE 4910-EX-P